DEPARTMENT OF ENERGY

Notice of Renewal of the Secretary of Energy Advisory Board

Pursuant to section 14(a)(2)(A) of the Federal Advisory Committee Act and in accordance with title 41 of the Code of Federal Regulations, section 101-6.1015, and following consultation with the Committee Management Secretariat of the General Services Administration, notice is hereby given that the Secretary of Energy Advisory Board (the Board) has been renewed for an additional 60 days, beginning March 20, 2006.

The Board will provide advice, information, and recommendations to the Secretary of Energy on educational issues, and on any other activities and operations of the Department of Energy as the Secretary may direct.

The Board members are selected to assure well-balanced representation in fields of importance to the Department of Energy. Membership of the Board will continue to be determined in accordance with the requirements of the Federal Advisory Committee Act (Pub. L. 92-463) and implementing regulations.

The extension of the Board has been determined to be in the public interest, important and vital to the conduct of the Department's business in connection with the performance of duties established by statute for the Department of Energy. The Board will operate in accordance with the provisions of the Federal Advisory Committee Act (Pub. L. 92-463), the General Services Administration Final Rule on Federal Advisory Committee Management, and other directives and instructions issued in implementation of those acts.

FOR FURTHER INFORMATION CONTACT: Ms. Rachel M. Samuel, U.S. Department of Energy, MA-70, FORS, Washington, DC 20585, Telephone: (202) 586-3279.

Issued in Washington, DC, on March 20, 2006.
James N. Solit,
Advisory Committee Management Officer.

[FR Doc. E6-4395 Filed 3-24-06; 8:45 am]

BILLING CODE 6450-01-P